DEPARTMENT OF ENERGY

Federal Energy Regulatory Commission

[Docket No. RP02-114-000]

Tennessee Gas Pipeline Company; Notice of Comment Periods

September 11, 2002.

Take notice that the following comment periods have been established in the above-captioned technical conference proceeding: Initial comments are due by the close of business October 1, 2002; with reply comments due by the close of business October 11, 2002.

All comments should be filed with the Secretary's office in accordance with the provisions of the Commission's Rules of Practice and Procedure. In addition, 18 CFR 385.2010 (Rule 2010) requires that participants must serve a copy of their comments to on each person whose names appears on the official service list in this proceeding.

For additional information please contact Diane Neal at (202) 502-6210 or Leonard Burton at (202) 502-8074.

Magalie R. Salas,
Secretary.

[FR Doc. 02-23573 Filed 9-16-02; 8:45 am]

BILLING CODE 6717-01-P